DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Survey of Current and Alumni SAMHSA Fellows of the Minority Fellowship Program (MFP) (OMB No. 0930-0304)—REVISION

SAMHSA is requesting approval from the Office of Management and Budget (OMB) to revise the collection of surveys of current and alumni MFP fellows to include current and alumni fellows from the Now Is The Time-MFP-Youth (NITT-MFP-Y) and NITT-MFP-Addiction Counselors (NITT-MFP-AC) grant programs. These surveys would gather information about current and alumni fellows in all three programs that will help SAMHSA meet its responsibilities under the Government Performance and Results Modernization Act for gathering, analyzing, and interpreting information about government-funded programs such as the MFP, the NITT-MFP-Y, and the NITT-MFP-AC.

In 1973, in response to a substantial lack of ethnic and racial minorities in the mental health professions, the Center for Minority Health at the National Institute of Mental Health established the MFP. Since its move to SAMHSA in 1992, the MFP has continued to facilitate the entry of graduate students and psychiatric residents into mental health careers and has increased the number of psychology, psychiatry, nursing, and social work professionals trained to provide mental health and substance abuse services to minority groups. In 2014, funds were appropriated to expand the traditional MFP to include two programs to support the President's NITT initiative: NITT-MFP-Y and NITT-MFP-AC. These programs provide stipends and tuition support to students pursuing master's level training in behavioral health fields like psychology, social work, professional counseling, marriage and family therapy, nursing, and addiction/substance abuse counseling, thus directly supporting the NITT goal of increasing behavioral health services for youth and contributing to making schools safer. The traditional MFP offers sustained grants to six national behavioral health professional associations: the American Association of Marriage and Family Therapy (AAMFT), the American Nurses Association (ANA), the American Psychiatric Association (ApA), the American Psychological Association (APA), the Council on Social Work Education (CSWE), and the National Board for Certified Counselors and Affiliates (NBCC). The grantees for the NITT-MFP-Y program are the AAFMT, ANA, APA, CSWE, and NBCC, and the grantees for the NITT-MFP-AC program are the NAADAC—Association for Addiction Professionals and NBCC.

This package includes two survey instruments, the Current SAMHSA MFP Fellows survey and the MFP Alumni survey, which have previously been administered to current and alumni fellows of the traditional MFP grant program. SAMHSA is requesting approval from OMB to include respondents (i.e., fellows) from the NITT-MFP-Y and NITT-MFP-AC programs and to add 13 and 10 questions to the Current SAMHSA MFP Fellows and MFP Alumni surveys, respectively. Although the aims of the traditional MFP and the NITT-MFPs are similar, some aspects of the NITT-MFPs are unique. For example, the focus on master's-level students (versus doctoral) and on providing culturally competent behavioral health services specifically to youth and transition-aged young adults. Thus, approval is requested to add questions to the surveys to ensure that the information needed to evaluate the NITT-MFPs is captured. The surveys will include appropriate skip patterns so that traditional MFP fellows are not asked questions that do not apply to them.

The two online surveys (with the option for a hard copy mailed through the U.S. Postal Service) will be used with the following stakeholders in the MFP grant programs:

1. Current SAMHSA MFP Fellows (n=428)

a. Current traditional MFP Fellows currently receiving support during their doctoral-level training or psychiatric residency will be asked about their experiences in the MFP (from recruitment into the program through their participation in the various activities provided by the grantees).

b. Current NITT-MFP-Y and NITT-MFP-AC Fellows currently receiving support during the final year of their master's programs in behavioral health or related field will be asked about their experiences in the MFP (from recruitment into the program through their participation in the various activities provided by the grantees).

2. MFP Alumni (n=1,440)

a. Traditional MFP Alumni who participated in the MFP during the time the program was administered by SAMHSA will be asked about their previous experiences as fellows in the MFP and also about their subsequent involvement and leadership in their professions.

b. NITT-MFP-Y and NITT-MFP-AC Alumni who participated in the MFP during their master's program will be asked about their previous experiences as fellows in the MFP and also about their subsequent involvement and leadership in their professions.

The information gathered by these two surveys will be used to gain insights into, and to document, impacts that the MFP has had and is having on current and former MFP fellows, and contributions and impacts that the current and former fellows are making in their work. The surveys include questions to assess the following measures: completion of the fellowship program (e.g., completion of MFP goals, number of mentors, total mentored hours); post-fellowship employment (e.g., employment types and fields, targeted service populations); increase in skills/knowledge (e.g., number of certifications obtained, number of continuing education hours); and contributions to the field (e.g., number of professional publications).

The survey data will also be utilized in an evaluation of the NITT-MFP programs. The requested additional questions will allow the evaluation to assess the overall success of the SAMHSA NITT initiative in enhancing the behavioral health workforce in terms of the number of master's level behavioral health specialists trained with MFP support, their competencies and characteristics, and their capacity to meet behavioral health workforce needs. The evaluation will also explore whether the program results in increased knowledge, skills, and aptitude among NITT-MFP fellows to provide culturally competent behavioral health services to underserved, at risk children, adolescents, and transition-age youth (ages 16-25); and how these new behavioral health professionals are sustained in the workforce.

The total annual burden estimate for conducting the surveys is shown below:

Survey name | Number of respondents | Responses per respondent | Total number of responses | Hours per response | Total burden hours
SAMHSA MFP Current Fellows Survey | 428 | 1 | 428 | 0.42 | 180
SAMHSA MFP Alumni Survey | 1,440 | 1 | 1,440 | 0.75 | 1,080
Totals | ᵃ 1,868 |  | 1,868 |  | 1,260
ᵃ This is an unduplicated count of total respondents.

Written comments and recommendations concerning the proposed information collection should be sent by April 18, 2016 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2016-06009 Filed 3-16-16; 8:45 am]

BILLING CODE 4162-20-P